DEPARTMENT OF DEFENSE

Office of the Secretary

Nationwide TRICARE Demonstration Project

AGENCY: Office of the Secretary of Defense (Health Affairs)/TRICARE Management Activity, Department of Defense.

ACTION: Notice Extending Deadline for Demonstration Project.

SUMMARY: On November 5, 2001, the Department of Defense (DoD) published a notice of a Nationwide TRICARE Demonstration Project (66 FR 55928-55930). On October 1, 2004, DoD published a notice (69 FR 58895) to extend the demonstration through October 31, 2005. On October 12, 2005, DoD published a notice (70 FR 59320) to extend the demonstration through October 31, 2007. On June 19, 2007, the Department published a notice (72 FR 33742) to extend the demonstration through October 31, 2008. On August 22, 2006, the Department published a proposed rule to implement sections 704 and 705 of the Ronald Reagan National Defense Authorization Act for Fiscal Year 2005, and is in the process of promulgating the final rule.

The demonstration is also referred to as the Operation Noble Eagle/Enduring Freedom Reservist and National Guard Benefits Demonstration. This notice is to advise interested parties of the continuation of the demonstration in which the DoD Military Health System addresses unreasonable impediments to the continuity of health care encountered by certain family members of Reservists and National Guardsmen called to Active Duty in support of a Federal/contingency operation. The demonstration scheduled to end on October 31, 2008, is now extended through October 31, 2009.

FOR FURTHER INFORMATION CONTACT: Office of the Assistant Secretary of Defense (Health Affairs), TRICARE Management Activity, TRICARE Policy and Operations Directorate, at (703) 681-0039.

SUPPLEMENTARY INFORMATION: The continued activation of Reserve Component members in support of Noble Eagle/Operation Enduring Freedom and Operation Iraqi Freedom warrants the continuation of the demonstration to support the health care needs and morale of family members of activated reservists and guardsmen. The National Defense Authorization Act of 2005 amended existing statutes to authorize the Secretary of Defense to provide these benefits permanently by regulation. The demonstration needs to be extended to allow sufficient time to complete the rule-making process. The impact, if the demonstration is not extended before the regulation is completed, includes higher out-of-pocket costs and potential inability of beneficiaries to continue to use the same provider for ongoing care. There are three separate components to the demonstration. First, those who participate in TRICARE Standard will not be responsible for paying the TRICARE Standard deductible. By law, the TRICARE Standard deductible for Active Duty dependents is $150 per individual and $300 per family ($50/$150 for E-4's and below).

The second component extends TRICARE payments up to 115 percent of the TRICARE maximum allowable charge, less the applicable patient co-payment, for care received from a provider that does not participate (accept assignment) under TRICARE to the extent necessary to ensure timely access to care and clinically appropriate continuity of care.

Third, the demonstration authorizes a waiver of the non-availability statement requirement of nonemergency inpatient care. This demonstration project is being conducted under the authority of 10 U.S.C. 1092. This demonstration is extended through October 31, 2009.

Dated: April 14, 2008.
Patricia L. Toppings,
Alternate OSD Federal Register Liaison Officer, Department of Defense.

[FR Doc. E8-8385 Filed 4-17-08; 8:45 am]

BILLING CODE 5001-06-P